DEPARTMENT OF JUSTICE

Antitrust Division

Notice Pursuant to the National Cooperative Research and Production Act of 1993—Allseen Alliance, Inc.

Notice is hereby given that, on July 26, 2016, pursuant to Section 6(a) of the National Cooperative Research and Production Act of 1993, 15 U.S.C. 4301 et seq. (“the Act”), AllSeen Alliance, Inc. (“AllSeen Alliance”) has filed written notifications simultaneously with the Attorney General and the Federal Trade Commission disclosing changes in its membership. The notifications were filed for the purpose of extending the Act's provisions limiting the recovery of antitrust plaintiffs to actual damages under specified circumstances. Specifically, Seluxit ApS, Hjulmagervej, Aalborg, DENMARK; Trend Micro, Taipei, TAIWAN; Ashiemymy Technology Limited, Croyodn, Greater London, UNITED KINGDOM; Xiamen Hualin Electronics Co., Ltd., Torch Hi-tech District, Xiamen, PEOPLE'S REPUBLIC OF CHINA; Loewe Technologies GmbH, Kronach, GERMANY; SGS Taiwan Ltd., Wuku District, New Taipei City, TAIWAN; AT4 wireless, S.A.U., Malaga, SPAIN; and VESTEL, Manisa, TURKEY, have been added as parties to this venture.

Also, AT&T Services, Inc. (on behalf of itself and its affiliates), Atlanta, GA; CA Engineering, Draper, UT; Cisco Systems, Inc., Lawrenceville, GA; Guangdong Pisen Electronics Co. Ltd., Longgang District, Shenzhen City, PEOPLE'S REPUBLIC OF CHINA; Imagination Technologies, Sunnyvale, CA; Le Shi Zhi Xin Electronic Technology (Tianjin) Limited, Chaoyang District, Beijing, PEOPLE'S REPUBLIC OF CHINA; LiteOn Technology Corporation, New Taipei City, TAIWAN; Sproutling, San Francisco, CA; Vestel Elektronik, Sanayi ve Ticaret A.S., Manisa, TURKEY; Weaved, Inc., Palo Alto, CA; Things.Expert LLC, Doral, FL; Hubble Connected Limited, Victoria, British Columbia, CANADA; DAWON DNS Co., Ltd., Gwangmyeoung-si, Gyeonggi-do, KOREA; Playtabase, Minneapolis, MN; Connectuity, Louisville, KY; CenturyLink, Denver, CO; People Power Company, Palo Alto, CA; Seed Labs, San Francisco, CA; Carvoyant, Inc., Odessa, FL; iGloo Software Pty Ltd., West Melbourne, AUSTRALIA; Waygum, Inc., Dublin, CA; Unizyx Holding Corporation, Hsinchu, TAIWAN; Infobright Inc., Toronto, Ontario, CANADA; Hisilicon Technologies Co., Ltd., Longgang District, Shenzhen, PEOPLE'S REPUBLIC OF CHINA; ZTE Corporation, Shanghai, PEOPLE'S REPUBLIC OF CHINA; and CastleOS Software, LLC, Johnston, RI, have withdrawn as parties to this venture.

No other changes have been made in either the membership or planned activity of the group research project. Membership in this group research project remains open, and AllSeen Alliance intends to file additional written notifications disclosing all changes in membership.

On January 29, 2014, AllSeen Alliance filed its original notification pursuant to Section 6(a) of the Act. The Department of Justice published a notice in the Federal Register pursuant to Section 6(b) of the Act on March 4, 2014 (79 FR 12223).

The last notification was filed with the Department on May 9, 2016. A notice was published in the Federal Register pursuant to Section 6(b) of the Act on June 9, 2016 (81 FR 37213).

Patricia A. Brink,
Director of Civil Enforcement, Antitrust Division.

[FR Doc. 2016-19706 Filed 8-17-16; 8:45 am]

BILLING CODE P